DEPARTMENT OF HOUSING AND URBAN DEVELOPMENT

[Docket No. FR-4912-N-05]

Notice of Availability of a Final Generic Environmental Impact Statement for the World Trade Center Memorial and Redevelopment Plan in the Borough of Manhattan, City of New York, NY

AGENCY: Office of the Assistant Secretary for Community Planning and Development, HUD.

ACTION: Notice.

SUMMARY: The Department of Housing and Urban Development (HUD) gives notice to the public, agencies, and Indian tribes that a final Generic Environmental Impact Statement (Final GEIS) for the World Trade Center Memorial and Redevelopment Plan (Proposed Action) has been completed and is available for review and comment. This notice is given on behalf of the Lower Manhattan Development Corporation (LMDC). LMDC is a subsidiary of the Empire State Development Corporation (a political subdivision and public benefit corporation of the State of New York). As the recipient of HUD Community Development Block Grant funds appropriated for the World Trade Center disaster recovery and rebuilding efforts, LMDC acts, pursuant to 42 U.S.C. 5304(g), as the responsible entity for compliance with the National Environmental Policy Act (NEPA) in accordance with 24 CFR 58.4. LMDC also acts under its authority as lead agency in accordance with the New York State Environmental Quality Review Act. The Final GEIS has been prepared in cooperation with the Port Authority of New York and New Jersey. A NEPA Record of Decision (ROD) will be issued after the availability period. This notice is given in accordance with the Council on Environmental Quality regulations at 40 CFR parts 1500-1508.

DATES: Comment Due Date: All interested agencies, groups and persons may submit comments on the Final GEIS. Comments must be received by 5 p.m. Eastern Daylight Time (EDT) on May 24, 2004. Comments received after 5 p.m. EDT on May 24, 2004, will not be considered. Written comments on the Final GEIS will be accepted at the following address: Lower Manhattan Development Corporation, Attention: Comments WTC Memorial and Redevelopment Plan/FGEIS, One Liberty Plaza, 20th Floor, New York, NY 10006.

Comments on the Final GEIS may also be submitted until 5 p.m. EDT on May 24, 2004, by e-mailing comments to wtcenvironmental@renewnyc.com.

FOR FURTHER INFORMATION CONTACT: Further information and a copy of the Final GEIS may be obtained by contacting: William H. Kelley, Planning Project Manager, Lower Manhattan Development Corporation, One Liberty Plaza, 20th Floor, New York, NY 10006; Telephone: (212) 962-2300; Fax: (212) 962-2431; e-mail: wtcenvironmental@renewnyc.com. A copy of the Final GEIS is also available on LMDC's Web site: http://www.RenewNYC.com in the “Planning, Design & Development” section.

A copy of the Final GEIS is also available for public review at the following locations:

Chatham Square Library, 33 East Broadway, New York, NY 10007

New Amsterdam Library, 9 Murray Street, New York, NY 10002.

Humanities and Social Sciences, Library, 476 5th Avenue, New York, New York 10028.

Hamilton Fish Library, 415 East Houston Street, New York, NY 10002.

Hudson Park Library, 66 Leroy Street, New York, NY 10007.

Manhattan Community Board#1, 49-51 Chamber Street, #715, New York, NY 10007.

Manhattan Community Board #2, 3 Washington Square Park, New York, NY 10012.

Manhattan Community Board #3, 59 East 4th Street, New York, NY 10003.

SUPPLEMENTARY INFORMATION: The Proposed Action would provide for the construction on the Project Site of the World Trade Center Site Memorial (Memorial), an interpretive museum (Memorial Center), cultural facilities, and Memorial-related improvements, up to 10 million square feet of above-grade Class A office space, plus associated storage, mechanical, loading, below-grade parking, and other non-office space, up to 1 million square feet of retail space, a hotel with up to 800 rooms and up to 150,000 square feet of conference space, open space areas, and certain infrastructure improvements. The Proposed Action would be assisted in part by HUD Community Development Block Grant funds appropriated by Congress for the World Trade Center disaster recovery and rebuilding efforts.

The Project Site consists of the World Trade Center Site (WTC Site) and the Southern Site in Lower Manhattan, New York, New York. The WTC Site is an approximately 16-acre parcel bounded by Liberty Street, Church Street, Vesey Street, and Route 9A. The Southern Site comprises two adjacent blocks south of the WTC Site—one bounded by Liberty, Washington, Albany, and Greenwich Streets, and the other bounded by Liberty, Cedar, and Washington Streets and Route 9A—and portions of two streets: Liberty Street between those blocks and the WTC Site, and Washington Street between Cedar and Liberty Streets.

The proposed design would extend Fulton and Greenwich Streets through the WTC Site, dividing the site into quadrants. The Memorial, Memorial Center, and cultural buildings would occupy the southwest quadrant where the Twin Towers once stood. At the northwest corner of the WTC Site would be the tallest structure in the complex, Freedom Tower. The four other proposed towers would descend in height clockwise to the fifth tower on the Southern Site.

This fifth tower would have a ground-floor retail area and would be located on the south end of the Southern Site. The Southern Site would be reconfigured to open Cedar Street between Greenwich and Washington Streets and close Washington Street between Liberty and Cedar Streets. This would allow the creation of a single large open space on the new block south of Liberty Street as well as the tower site between Cedar and Albany Streets. St. Nicholas Greek Orthodox Church would rebuild its facility in the open space not far from its previous location on September 10, 2001.

The Proposed Action also provides for infrastructure and utilities to support the operations of the Project Site as a whole, including below-grade freight servicing and loading, a below-grade bus parking garage serving the Memorial, below-grade rentable storage, below-grade chiller and fan plants, a parking garage for building tenants and safety and security related facilities. The bus parking may be underground on the Southern Site or possibly on the WTC Site itself.

The Final GEIS analyzes the Proposed Action's potential impacts to land use and public policy, urban design and visual resources, historic resources, open space, shadows, community facilities, socioeconomic conditions, neighborhood character, air quality, noise, hazardous materials, infrastructure/safety/security, traffic and parking, transit and pedestrians, coastal zone, floodplain, natural resources, electromagnetic fields, environmental justice, and construction. The Final GEIS also considers mitigation measures, alternatives, unavoidable adverse impacts, growth-inducing aspects of the Proposed Action, irreversible and irretrievable commitments of resources, indirect and cumulative effects and other areas of potential environmental impact.

Alternatives looked at in the Final GEIS include a no-action alternative, and a reasonable range of other alternatives, including a Memorial-only alternative, a restoration alternative, rebuilding alternatives, a WTC Site-only alternative, an enhanced green construction alternative, a co-generation alternative, a reduced impact alternative, an at-grade loading alternative, and a cooling towers alternative.

Issuance of the Final GEIS will trigger a review period, after which a ROD will be issued. The issuance of the ROD will conclude a planning and environmental review process that started with the notice of intent to prepare a GEIS published in the Federal Register on July 7, 2003 (68 FR 40289). On July 23, 2003, LMDC held two public scoping meetings in order to receive public comment on the Draft Scope, and the public comment period on the Draft Scope remained open until August 4, 2003. The notice of availability of the Draft GEIS was published in the Federal Register on January 23, 2004 (69 FR 3382). On February 18, 2004, LMDC held two public hearings in order to receive public comment on the Draft GEIS, and the public comment period on the Draft GEIS remained open until March 15, 2004.

Questions may be directed to the individual named above under the heading FOR FURTHER INFORMATION CONTACT.

Dated: April 20, 2004.
Roy A. Bernardi,
Assistant Secretary for Community Planning and Development.

[FR Doc. 04-9469 Filed 4-26-04; 8:45 am]

BILLING CODE 4210-29-P